NATIONAL SCIENCE FOUNDATION

Proposal Review Panel for Physics; Notice of Meeting

In accordance with the Federal Advisory Committee Act (Pub. L. 92-463, as amended), the National Science Foundation announces the following meeting.

Name: Proposal Review Panel for Physics (#1208).

Date and Time: November 12-13, 2002, 8 a.m. to 6 p.m.

Place: University of Illinois.

Type of Meeting: Part-open.

Contact Person: Dr. Richard Boyd, Program Director for Nuclear Physics, Room 1015N, National Science Foundation, 4201 Wilson Blvd., Arlington, VA 22230. Telephone: (703) 292-7381.

Purpose of Meeting: Site Visit in conjunction with review for a five-year grant.

Agenda: Closed: Nov. 12, from 8:30-9 a.m., noon-1 p.m., 3:30-3:50 p.m., and 5:30-6 p.m.; and Nov. 13 from 8:30-9 a.m. to noon, 1-3:30 p.m. During these times the merits of the research presented in the open sessions will be discussed and evaluated.

Open: Nov. 12, from 9 a.m. to noon, 1-3:30 p.m., and 3:50-5:30 p.m.; and Nov. 13 aspects of the program will be presented. In an evening session on Nov. 12, from 8-9:30, graduate students will present their work in a poster session.

Reason for Closing: The proposals being reviewed include information of a proprietary or confidential nature, including technical information; information on personnel and proprietary data for present and future subcontracts. These matters are exempt under 5 U.S.C. 552b(c), (4) and (6) of the Government in the Sunshine Act.

Dated: October 29, 2002.
Susanne Bolton,
Committee Management Officer.

[FR Doc. 02-27907 Filed 11-01-02; 8:45 am]

BILLING CODE 7555-01-M